DEPARTMENT OF ENERGY

Federal Energy Regulatory Commission

Notice of Effectiveness of Exempt Wholesale Generator Status

| Docket Nos.
Route 66 Solar Energy Center, LLC | EG22-1-000
Cypress Creek Fund 7 Tenant, LLC | EG22 EG22-2-000
Cypress Creek Fund 6 Tenant, LLC | EG22 EG22-3-000
Cypress Creek Fund 5 Tenant, LLC | EG22 EG22-4-000
CCP-PL Lessee, LLC | EG22 EG22-5-000
Hecate Energy Highland LLC | EG22 EG22-6-000
EnerSmart Chula Vista BESS LLC | EG22 EG22-7-000
Sagebrush Line, LLC | EG22 EG22-8-000
PGR 2021 Lessee 2, LLC | EG22 EG22-9-000
Beulah Solar, LLC | EG22 EG22-10-000
Ellis Solar, LLC | EG22 EG22-11-000
King Creek Wind Farm 1 LLC | EG22 EG22-12-000
King Creek Wind Farm 2 LLC | EG22 EG22-13-000
Calhoun Solar Energy LLC | EG22 EG22-14-000
ENGIE 2020 ProjectCo-NH1 LLC | EG22 EG22-15-000
Dunns Bridge Solar Center, LLC | EG22 EG22-16-000
Jackson Generation, LLC | EG22 EG22-17-000
MPH AL Pierce, LLC | EG22 EG22-18-000

Take notice that during the month of December 2021, the status of the above-captioned entities as Exempt Wholesale Generators became effective by operation of the Commission's regulations. 18 CFR 366.7(a)(2021).

Dated: January 7, 2022.
Debbie-Anne A. Reese,
Deputy Secretary.

[FR Doc. 2022-00618 Filed 1-12-22; 8:45 am]

BILLING CODE 6717-01-P